DEPARTMENT OF THE INTERIOR

Fish and Wildlife Service

50 CFR Part 20

[Docket No. FWS-R9-MB-2011-0014; 91200-1231-9BPP-L2]

RIN 1018-AX34

Migratory Bird Hunting; Early Seasons and Bag and Possession Limits for Certain Migratory Game Birds in the Contiguous United States, Alaska, Hawaii, Puerto Rico, and the Virgin Islands

AGENCY: Fish and Wildlife Service, Interior.

ACTION: Final rule.

SUMMARY: This rule prescribes the hunting seasons, hours, areas, and daily bag and possession limits of mourning, white-winged, and white-tipped doves; band-tailed pigeons; rails; moorhens and gallinules; woodcock; common snipe; sandhill cranes; sea ducks; early (September) waterfowl seasons; migratory game birds in Alaska, Hawaii, Puerto Rico, and the Virgin Islands; and some extended falconry seasons. Taking of migratory birds is prohibited unless specifically provided for by annual regulations. This rule permits taking of designated species during the 2011-12 season.

DATES: This rule is effective on September 1, 2011.

ADDRESSES: You may inspect comments received on the migratory bird hunting regulations during normal business hours at the Service's office in room 4107, Arlington Square Building, 4501 N. Fairfax Drive, Arlington, VA. You may obtain copies of referenced reports from the street address above, or from the Division of Migratory Bird Management's Web site at http://www.fws.gov/migratorybirds/, or at http://www.regulations.gov at Docket No. FWS-R9-MB-2011-0014.

FOR FURTHER INFORMATION CONTACT: Ron W. Kokel, Division of Migratory Bird Management, U.S. Fish and Wildlife Service, (703) 358-1714.

SUPPLEMENTARY INFORMATION:

Regulations Schedule for 2011

On April 8, 2011, we published in the Federal Register (76 FR 19876) a proposal to amend 50 CFR part 20. The proposal provided a background and overview of the migratory bird hunting regulations process, and addressed the establishment of seasons, limits, and other regulations for hunting migratory game birds under §§ 20.101 through 20.107, 20.109, and 20.110 of subpart K. Major steps in the 2011-12 regulatory cycle relating to open public meetings and Federal Register notifications were also identified in the April 8 proposed rule. Further, we explained that all sections of subsequent documents outlining hunting frameworks and guidelines were organized under numbered headings and that subsequent documents would refer only to numbered items requiring attention.

On June 22, 2011, we published in the Federal Register (76 FR 36508) a second document providing supplemental proposals for early- and late-season migratory bird hunting regulations. The June 22 supplement also provided information on the 2011-12 regulatory schedule and announced the Service Regulations Committee (SRC) and summer (July) Flyway Council meetings.

On June 22 and 23, 2011, we held open meetings with the Flyway Council Consultants where the participants reviewed information on the current status of migratory shore and upland game birds and developed recommendations for the 2011-12 regulations for these species plus regulations for migratory game birds in Alaska, Puerto Rico, and the Virgin Islands, special September waterfowl seasons in designated States, special sea duck seasons in the Atlantic Flyway, and extended falconry seasons. In addition, we reviewed and discussed preliminary information on the status of waterfowl as it relates to the development and selection of the regulatory packages for the 2011-12 regular waterfowl seasons.

On July 26, 2011, we published in the Federal Register (76 FR 44730) a third document specifically dealing with the proposed frameworks for early-season regulations. On August 30, 2011, we published in the Federal Register a final rule which contained final frameworks for early migratory bird hunting seasons from which wildlife conservation agency officials from the States, Puerto Rico, and the Virgin Islands selected early-season hunting dates, hours, areas, and limits.

On July 27-28, 2011, we held open meetings with the Flyway Council Consultants at which the participants reviewed the status of waterfowl and developed recommendations for the 2011-12 regulations for these species. Proposed hunting regulations were discussed for late seasons. We published proposed frameworks for the 2011-12 late-season migratory bird hunting regulations in an August 26, 2011 Federal Register (76 FR 53536).

The final rule described here is the sixth in the series of proposed, supplemental, and final rulemaking documents for migratory game bird hunting regulations and deals specifically with amending subpart K of 50 CFR part 20. It sets hunting seasons, hours, areas, and limits for mourning, white-winged, and white-tipped doves; band-tailed pigeons; rails; moorhens and gallinules; woodcock; common snipe; sandhill cranes; sea ducks; early (September) waterfowl seasons; mourning doves in Hawaii; migratory game birds in Alaska, Puerto Rico, and the Virgin Islands; youth waterfowl hunting day; and some extended falconry seasons.

National Environmental Policy Act (NEPA) Consideration

NEPA considerations are covered by the programmatic document “Final Supplemental Environmental Impact Statement: Issuance of Annual Regulations Permitting the Sport Hunting of Migratory Birds (FSES 88-14),” filed with the Environmental Protection Agency on June 9, 1988. We published a notice of availability in the Federal Register on June 16, 1988 (53 FR 22582). We published our Record of Decision on August 18, 1988 (53 FR 31341). In addition, an August 1985 environmental assessment entitled “Guidelines for Migratory Bird Hunting Regulations on Federal Indian Reservations and Ceded Lands” is available from the address indicated under the caption ADDRESSES.

In a notice published in the September 8, 2005, Federal Register (70 FR 53376), we announced our intent to develop a new Supplemental Environmental Impact Statement (SEIS) for the migratory bird hunting program. Public scoping meetings were held in the spring of 2006, as detailed in a March 9, 2006, Federal Register (71 FR 12216). We released the draft SEIS on July 9, 2010 (75 FR 39577). The draft SEIS is available either by writing to the address indicated under ADDRESSES or by viewing our Web site at http://www.fws.gov/migratorybirds.

Endangered Species Act Consideration

Section 7 of the Endangered Species Act, as amended (16 U.S.C. 1531-1543; 87 Stat. 884), provides that, “The Secretary shall review other programs administered by him and utilize such programs in furtherance of the purposes of this Act” (and) shall “insure that any action authorized, funded, or carried out * * * is not likely to jeopardize the continued existence of any endangered species or threatened species or result in the destruction or adverse modification of [critical] habitat. * * *.” Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Additionally, these findings may have caused modification of some regulatory measures previously proposed, and the final frameworks reflect any such modifications. Our biological opinions resulting from this section 7 consultation are public documents available for public inspection at the address indicated under ADDRESSES.

Executive Order 12866

The Office of Management and Budget has determined that this rule is significant and has reviewed this rule under Executive Order 12866. OMB bases its determination of regulatory significance upon the following four criteria:

(a) Whether the rule will have an annual effect of $100 million or more on the economy or adversely affect an economic sector, productivity, jobs, the environment, or other units of the government.

(b) Whether the rule will create inconsistencies with other Federal agencies' actions.

(c) Whether the rule will materially affect entitlements, grants, user fees, loan programs, or the rights and obligations of their recipients.

(d) Whether the rule raises novel legal or policy issues.

An economic analysis was prepared for the 2008-09 season. This analysis was based on data from the 2006 National Hunting and Fishing Survey, the most recent year for which data are available (see discussion in Regulatory Flexibility Act section below). This analysis estimated consumer surplus for three alternatives for duck hunting (estimates for other species are not quantified due to lack of data). The alternatives are (1) Issue restrictive regulations allowing fewer days than those issued during the 2007-08 season, (2) Issue moderate regulations allowing more days than those in alternative 1, and (3) Issue liberal regulations identical to the regulations in the 2007-08 season.

For the 2008-09 season, we chose alternative 3, with an estimated consumer surplus across all flyways of $205-$270 million. We also chose alternative 3 for the 2009-10 and the 2010-11 seasons. At this time, we are proposing no changes to the season frameworks for the 2011-12 season, and as such, we will again consider these three alternatives. However, final frameworks for waterfowl will be dependent on population status information available later this year. For these reasons, we have not conducted a new economic analysis, but the 2008-09 analysis is part of the record for this rule and is available at http://www.fws.gov/migratorybirds/NewReportsPublications/SpecialTopics/SpecialTopics.html#HuntingRegs or at http://www.regulations.gov at Docket No. FWS-R9-MB-2011-0014.

Regulatory Flexibility Act

The annual migratory bird hunting regulations have a significant economic impact on substantial numbers of small entities under the Regulatory Flexibility Act (5 U.S.C. 601 et seq.). We analyzed the economic impacts of the annual hunting regulations on small business entities in detail as part of the 1981 cost-benefit analysis. This analysis was revised annually from 1990-95. In 1995, the Service issued a Small Entity Flexibility Analysis (Analysis), which was subsequently updated in 1996, 1998, 2004, and 2008. The primary source of information about hunter expenditures for migratory game bird hunting is the National Hunting and Fishing Survey, which is conducted at 5-year intervals. The 2008 Analysis was based on the 2006 National Hunting and Fishing Survey and the U.S. Department of Commerce's County Business Patterns, from which it was estimated that migratory bird hunters would spend approximately $1.2 billion at small businesses in 2008.

Copies of the Analysis are available upon request from the Division of Migratory Bird Management (see ADDRESSES) or from our Web site at http://www.fws.gov/migratorybirds/NewReportsPublications/SpecialTopics/SpecialTopics.html#HuntingRegs or at http://www.regulations.gov at Docket No. FWS-R9-MB-2011-0014.

Small Business Regulatory Enforcement Fairness Act

This rule is a major rule under 5 U.S.C. 804(2), the Small Business Regulatory Enforcement Fairness Act. For the reasons outlined above, this rule would have an annual effect on the economy of $100 million or more. However, because this rule would establish hunting seasons, we do not plan to defer the effective date under the exemption contained in 5 U.S.C. 808(1).

Paperwork Reduction Act

We examined these regulations under the Paperwork Reduction Act of 1995 (44 U.S.C. 3501 et seq.). The various recordkeeping and reporting requirements imposed under regulations established in 50 CFR part 20, subpart K, are utilized in the formulation of migratory game bird hunting regulations. Specifically, OMB has approved the information collection requirements of our Migratory Bird Surveys and assigned control number 1018-0023 (expires 4/30/2014). This information is used to provide a sampling frame for voluntary national surveys to improve our harvest estimates for all migratory game birds in order to better manage these populations. OMB has also approved the information collection requirements of the Alaska Subsistence Household Survey, an associated voluntary annual household survey used to determine levels of subsistence take in Alaska, and assigned control number 1018-0124 (expires 4/30/2013).

A Federal agency may not conduct or sponsor and a person is not required to respond to a collection of information unless it displays a currently valid OMB control number.

Unfunded Mandates Reform Act

We have determined and certify, in compliance with the requirements of the Unfunded Mandates Reform Act, 2 U.S.C. 1502 et seq., that this rulemaking would not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of Executive Order 12988.

Takings Implication Assessment

In accordance with Executive Order 12630, this rule, authorized by the Migratory Bird Treaty Act, does not have significant takings implications and does not affect any constitutionally protected property rights. This rule would not result in the physical occupancy of property, the physical invasion of property, or the regulatory taking of any property. In fact, these rules would allow hunters to exercise otherwise unavailable privileges and, therefore, reduce restrictions on the use of private and public property.

Energy Effects—Executive Order 13211

Executive Order 13211 requires agencies to prepare Statements of Energy Effects when undertaking certain actions. While this rule is a significant regulatory action under Executive Order 12866, it is not expected to adversely affect energy supplies, distribution, or use. Therefore, this action is not a significant energy action and no Statement of Energy Effects is required.

Government-to-Government Relationship With Tribes

In accordance with the President's memorandum of April 29, 1994, “Government-to-Government Relations with Native American Tribal Governments” (59 FR 22951), Executive Order 13175, and 512 DM 2, we have evaluated possible effects on Federally-recognized Indian tribes and have determined that there are no effects on Indian trust resources. However, in the April 8 Federal Register, we solicited proposals for special migratory bird hunting regulations for certain Tribes on Federal Indian reservations, off-reservation trust lands, and ceded lands for the 2011-12 migratory bird hunting season. The resulting proposals were contained in a separate August 8, 2011, proposed rule (76 FR 48694). By virtue of these actions, we have consulted with Tribes affected by this rule.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a federalism summary impact assessment.

Regulations Promulgation

The rulemaking process for migratory game bird hunting must, by its nature, operate under severe time constraints. However, we intend that the public be given the greatest possible opportunity to comment. Thus, when the preliminary proposed rulemaking was published, we established what we believed were the longest periods possible for public comment. In doing this, we recognized that when the comment period closed, time would be of the essence. That is, if there were a delay in the effective date of these regulations after this final rulemaking, States would have insufficient time to select season dates and limits; to communicate those selections to us; and to establish and publicize the necessary regulations and procedures to implement their decisions. We find that “good cause” exists, within the terms of 5 U.S.C. 553(d)(3) of the Administrative Procedure Act, and therefore, under authority of the Migratory Bird Treaty Act (July 3, 1918), as amended (16 U.S.C. 703-711), these regulations will take effect less than 30 days after publication. Accordingly, with each conservation agency having had an opportunity to participate in selecting the hunting seasons desired for its State or Territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Dated: August 26, 2011.
Eileen Sobeck,
Acting Assistant Secretary for Fish and Wildlife and Parks.

For the reasons set out in the preamble, title 50, chapter I, subchapter B, part 20, subpart K of the Code of Federal Regulations is amended as follows:

PART 20—[AMENDED]

1. The authority citation for part 20 continues to read as follows:

Authority: Migratory Bird Treaty Act, 40 Stat. 755, 16 U.S.C. 703-712; Fish and Wildlife Act of 1956, 16 U.S.C. 742 a-j, Public Law 106-108, 113 Stat. 1491, Note Following 16 U.S.C. 703.

Note: The following annual hunting regulations provided for by §§ 20.101 through 20.106 and 20.109 of 50 CFR part 20 will not appear in the Code of Federal Regulations because of their seasonal nature.

2. Section 20.101 is revised to read as follows:

§ 20.101 Seasons, limits, and shooting hours for Puerto Rico and the Virgin Islands.

Subject to the applicable provisions of the preceding sections of this part, areas open to hunting, respective open seasons (dates inclusive), shooting and hawking hours, and daily bag and possession limits for the species designated in this section are prescribed as follows:

Shooting and hawking hours are one-half hour before sunrise until sunset.

CHECK COMMONWEALTH REGULATIONS FOR AREA DESCRIPTIONS AND ANY ADDITIONAL RESTRICTIONS.

(a) Puerto Rico

| Season dates | Limits: Bag | Limits: Possession
Doves and Pigeons
Zenaida, white-winged, and mourning doves ¹ | Sept. 3-Oct. 31 | 20 | 20
Scaly-naped pigeons | Sept. 3-Oct. 31 | 5 | 5
Ducks | Nov. 12-Dec. 19 & | 6 | 12
| Jan. 14-Jan. 30 | 6 | 12
Common Moorhens | Nov. 12-Dec. 19 & | 6 | 12
| Jan. 14-Jan. 30 | 6 | 12
Common Snipe | Nov. 12-Dec. 19 & | 8 | 16
| Jan. 14-Jan. 30 | 8 | 16
¹ Not more than 10 Zenaida and 3 mourning doves in the aggregate.

Restrictions: In Puerto Rico, the season is closed on the ruddy duck, white-cheeked pintail, West Indian whistling duck, fulvous whistling duck, masked duck, purple gallinule, American coot, Caribbean coot, white-crowned pigeon, and plain pigeon.

Closed Areas: Closed areas are described in the July 26, 2011, Federal Register (76 FR 44730).

(b) Virgin Islands

| Season dates | Limits: Bag | Limits: Possession
Zenaida doves | Sept. 1-Sept. 30 | 10 | 10
Ducks | CLOSED

Restrictions: In the Virgin Islands, the seasons are closed for ground or quail doves, pigeons, ruddy duck, white-cheeked pintail, West Indian whistling duck, fulvous whistling duck, masked duck, and purple gallinule.

Closed Areas: Ruth Cay, just south of St. Croix, is closed to the hunting of migratory game birds. All Offshore Cays under jurisdiction of the Virgin Islands Government are closed to the hunting of migratory game birds.

3. Section 20.102 is revised to read as follows:

§ 20.102 Seasons, limits, and shooting hours for Alaska.

Subject to the applicable provisions of the preceding sections of this part, areas open to hunting, respective open seasons (dates inclusive), shooting and hawking hours, and daily bag and possession limits for the species designated in this section are prescribed as follows:

Shooting and hawking hours are one-half hour before sunrise until sunset. Area descriptions were published in the July 26, 2011, Federal Register (76 FR 44730).

CHECK STATE REGULATIONS FOR AREA DESCRIPTIONS AND ANY ADDITIONAL RESTRICTIONS.

Area seasons | Dates
North Zone | Sept. 1-Dec. 16.
Gulf Coast Zone | Sept. 1-Dec. 16.
Southeast Zone | Sept. 16-Dec. 31.
Pribilof & Aleutian Islands Zone | Oct. 8-Jan. 22.
Kodiak Zone | Oct. 8-Jan. 22.

Daily Bag and Possession Limits
Area | Ducks (1) | Dark geese (2)(3)(4) | Light geese (2) | Brant (2)(3) | Common snipe | Sandhill cranes (5)
North Zone | 10-30 | 4-8 | 4-8 | 2-4 | 8-16 | 3-6
Gulf Coast Zone | 8-24 | 4-8 | 4-8 | 2-4 | 8-16 | 2-4
Southeast Zone | 7-21 | 4-8 | 4-8 | 2-4 | 8-16 | 2-4
Pribilof and Aleutian Islands Zone | 7-21 | 4-8 | 4-8 | 2-4 | 8-16 | 2-4
Kodiak Zone | 7-21 | 4-8 | 4-8 | 2-4 | 8-16 | 2-4
(1) The basic duck bag limits may include no more than 1 canvasback daily, 3 in possession, and may not include sea ducks. In addition to the basic duck limits, sea duck limits of 10 daily, 20 in possession, singly or in the aggregate, including no more than 6 each of either harlequin or long-tailed ducks, are allowed. Special sea duck limits will be available to non-residents, but at lower daily limits than residents, and they may take no more than a possession limit of 20 per season, including no more than 4 each of harlequin and long-tailed ducks, black, surf, and white-winged scoters, and king and common eiders. In Unit 15C, Kachemak Bay east of a line from Point Pogibshi to Anchor Point, the special sea duck daily bag limit for residents and nonresidents is 2 per day, 4 in possession, for harlequin and long-tailed ducks, and 1 per day, 2 in possession, for eiders (king and common collectively). Sea ducks include scoters, common and king eiders, harlequin ducks, long-tailed ducks, and common and red-breasted mergansers. The season for Steller's and spectacled eiders is closed.
(2) Dark geese include Canada and white-fronted geese. Light geese include snow geese and Ross' geese. Separate limits apply to brant. The season for emperor geese is closed Statewide.
(3) In Units 5 and 6, the taking of Canada geese is only permitted from September 28 through December 16. In the Middleton Island portion of Unit 6, the taking of Canada geese is by special permit only, with a maximum of 10 permits for the season and a daily bag and possession limit of 1. The season shall close if incidental harvest includes 5 dusky Canada geese. In Unit 6-C and on Hinchinbrook and Hawkins Islands in Unit 6-D, a special, permit-only Canada goose season may be offered. Hunters must have all harvested geese checked and classified to subspecies. The daily bag limit is 4 daily and 8 in possession. The Canada goose season will close in all of the permit areas if the total dusky goose harvest reaches 40.
(4) In Units 9, 10, 17, and 18, dark goose limits are 6 per day, 12 in possession.
(5) In Unit 17, the daily bag limit for sandhill cranes is 2 and the possession limit is 4.

Falconry: The total combined bag and possession limit for migratory game birds taken with the use of a falcon under a falconry permit is 3 per day, 6 in possession, and may not exceed a more restrictive limit for any species listed in this subsection.

Special Tundra Swan Season: In Units 17, 18, 22, and 23, there will be a tundra swan season from September 1 through October 31 with a season limit of 3 tundra swans per hunter. This season is by registration permit only; hunters will be issued 1 permit allowing the take of up to 3 tundra swans. Hunters will be required to file a harvest report after the season is completed. Up to 500 permits may be issued in Unit 18, 300 permits each in Units 22 and 23, and 200 permits in Unit 17.

4. Section 20.103 is revised to read as follows:

§ 20.103 Seasons, limits, and shooting hours for doves and pigeons.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the July 26, 2011, Federal Register (76 FR 44730).

CHECK STATE REGULATIONS FOR AREA DESCRIPTIONS AND ANY ADDITIONAL RESTRICTIONS.

Doves

Note: Unless noted, the seasons listed below are for mourning and white-winged doves in the aggregate.

|  | Season dates | Limits: Bag | Limits: Poss.
EASTERN MANAGEMENT UNIT
Alabama
North Zone | 12 noon to sunset | Sept. 3 only | 15 | 15
| ½ hour before | Sept. 4-Oct. 2 & | 15 | 15
| sunrise to sunset | Oct. 22-Nov. 5 & | 15 | 15
|  | Dec. 10-Jan. 3 | 15 | 15
South Zone | 12 noon to sunset | Oct. 1 only | 15 | 15
| ½ hour before | Oct. 2-Oct 30 & | 15 | 15
| sunrise to sunset | Nov. 24-Nov. 27 & | 15 | 15
|  | Dec. 3-Jan. 7 | 15 | 15
Delaware |  | Sept. 1-Oct. 1 & | 15 | 30
|  | Oct. 15-Oct. 29 & | 15 | 30
|  | Dec. 22-Jan. 14 | 15 | 30
Florida | 12 noon to sunset | Oct. 1-Oct. 24 | 15 | 30
| ½ hour before | Nov. 12-Nov. 27 & | 15 | 30
| sunrise to sunset | Dec. 10-Jan. 8 | 15 | 30
Georgia | 12 noon to sunset | Sept. 3 only | 15 | 30
| ½ hour before | Sept. 4-Sept. 18 | 15 | 30
| sunrise to sunset | Oct. 8-Oct. 16 & | 15 | 30
|  | Nov. 24-Jan. 7 | 15 | 30
Illinois (1) |  | Sept. 1-Oct. 31 & | 15 | 30
|  | Nov. 5-Nov. 13 | 15 | 30
Indiana |  | Sept. 1-Oct. 16 & | 15 | 30
|  | Nov. 4-Nov. 27 | 15 | 30
Kentucky | 11 am to sunset | Sept. 1 only | 15 | 30
| ½ hour before | Sept. 2-Oct. 24 & | 15 | 30
| sunrise to sunset | Nov. 24-Dec. 2 & | 15 | 30
|  | Dec. 31-Jan. 6 | 15 | 30
Louisiana
North Zone | 12 noon to sunset | Sept. 3 only | 15 | 30
| ½ hour before | Sept. 4-Sept. 18 & | 15 | 30
| sunrise to sunset | Oct. 8-Nov. 6 & | 15 | 30
|  | Dec. 10-Jan. 2 | 15 | 30
South Zone | 12 noon to sunset | Sept. 3 only | 15 | 30
| ½ hour before | Sept. 4-Sept. 11 & | 15 | 30
| sunrise to sunset | Oct. 15-Nov. 27 & | 15 | 30
|  | Dec. 17-Jan. 2 | 15 | 30
Maryland | 12 noon to sunset | Sept. 1-Oct. 8 | 15 | 30
| ½ hour before | Nov. 12-Nov. 25 & | 15 | 30
| sunrise to sunset | Dec. 21-Jan. 7 | 15 | 30
Mississippi
North Zone |  | Sept. 3-Sept. 25 & | 15 | 30
|  | Oct. 8-Nov. 1 & | 15 | 30
|  | Dec. 25-Jan. 15 | 15 | 30
South Zone |  | Sept. 3-Sept. 11 & | 15 | 30
|  | Oct. 8-Nov. 2 & | 15 | 30
|  | Dec. 12-Jan. 15 | 15 | 30
North Carolina | 12 noon to sunset | Sept. 3 | 15 | 30
| ½ hour before | Sept. 4-Oct. 8 & | 15 | 30
| sunrise to sunset | Nov. 21-Nov. 26 & | 15 | 30
|  | Dec. 17-Jan. 13 | 15 | 30
Ohio |  | Sept. 1-Oct. 23 & | 15 | 30
|  | Dec. 17-Jan. 2 | 15 | 30
Pennsylvania | 12 noon to sunset | Sept. 1-Oct. 1 & | 15 | 30
| ½ hour before | Oct. 29-Nov. 26 & | 15 | 30
| sunrise to sunset | Dec. 26-Jan. 4 | 15 | 30
Rhode Island | 12 noon to sunset | Sept. 17-Oct. 1 | 12 | 24
| ½ hour before | Oct. 15-Nov. 12 & | 12 | 24
| sunrise to sunset | Dec. 21-Jan. 5 | 12 | 24
South Carolina | 12 noon to sunset | Sept. 3-Sept. 5 | 15 | 30
| ½ hour before | Sept. 6-Oct. 8 & | 15 | 30
| sunrise to sunset | Nov. 19-Nov. 26 & | 15 | 30
|  | Dec. 21-Jan. 15 | 15 | 30
Tennessee | 12 noon to sunset | Sept. 1 only | 15 | 30
| ½ hour before | Sept. 2-Sept. 26 & | 15 | 30
| sunrise to sunset | Oct. 8-Oct. 23 & | 15 | 30
|  | Dec. 19-Jan. 15 | 15 | 30
Virginia | 12 noon to sunset | Sept. 3-Sept. 9 | 15 | 30
| ½ hour before | Sept. 10-Oct. 10 & | 15 | 30
| sunrise to sunset | Oct. 25-Nov. 5 & | 15 | 30
|  | Dec. 26-Jan. 14 | 15 | 30
West Virginia | 12 noon to sunset | Sept. 1 only | 15 | 30
| ½ hour before | Sept. 2-Oct. 8 & | 15 | 30
| sunrise to sunset | Oct. 24-Nov. 12 & | 15 | 30
|  | Dec. 26-Jan. 6 | 15 | 30
Wisconsin |  | Sept. 1-Nov. 9 | 15 | 30
CENTRAL MANAGEMENT UNIT
Arkansas |  | Sept. 3-Oct. 30 & | 15 | 30
|  | Dec. 26-Jan. 6 | 15 | 30
Colorado |  | Sept. 1-Nov. 9 | 15 | 30
Iowa |  | Sept. 1-Nov. 9 | 15 | 30
Kansas |  | Sept. 1-Oct. 31 & | 15 | 30
|  | Nov. 5-Nov. 13 | 15 | 30
Minnesota |  | Sept. 1-Oct. 30 | 15 | 30
Missouri |  | Sept. 1-Nov. 9 | 15 | 30
Montana |  | Sept. 1-Oct. 30 | 15 | 30
Nebraska |  | Sept. 1-Oct. 30 | 15 | 30
New Mexico
North Zone |  | Sept. 1-Nov. 9 | 15 | 30
South Zone |  | Sept. 1-Oct. 9 & | 15 | 30
|  | Dec. 1-Dec. 31 | 15 | 30
North Dakota |  | Sept. 1-Oct. 30 | 15 | 30
Oklahoma |  | Sept. 1-Oct. 31 & | 15 | 30
|  | Dec. 24-Jan. 1 | 15 | 30
South Dakota |  | Sept. 1-Nov. 9 | 15 | 30
Texas (2)
North Zone |  | Sept. 1-Oct. 23 & | 15 | 30
|  | Dec. 23-Jan. 8 | 15 | 30
Central Zone |  | Sept. 1-Oct. 23 & | 15 | 30
|  | Dec. 23-Jan. 8 | 15 | 30
South Zone | Special Area | Sept. 23-Oct. 30 & | 15 | 30
|  | Dec. 23-Jan. 19 | 15 | 30
| (Special Season) | Sept. 3-Sept. 4 & | 15 | 30
| 12 noon to sunset | Sept. 10-Sept. 11 | 15 | 30
Remainder of the South Zone |  | Sept. 23-Oct. 30 & | 15 | 30
|  | Dec. 23-Jan. 23 | 15 | 30
Wyoming |  | Sept. 1-Nov. 9 | 15 | 30
WESTERN MANAGEMENT UNIT
Arizona (3) |  | Sept. 1-Sept. 15 & | 10 | 20
|  | Nov. 25-Jan. 8 | 10 | 20
California |  | Sept. 1-Sept. 15 & | 10 | 20
|  | Nov. 12-Dec. 26 | 10 | 20
Idaho |  | Sept. 1-Sept. 30 | 10 | 20
Nevada |  | Sept. 1-Sept. 30 | 10 | 20
Oregon |  | Sept. 1-Sept. 30 | 10 | 20
Utah |  | Sept. 1-Sept. 30 | 10 | 20
Washington |  | Sept. 1-Sept. 30 | 10 | 20
OTHER POPULATIONS
Hawaii (4) |  | Nov. 5-Nov. 27 & | 10 | 10
|  | Dec. 3-Dec. 25 & | 10 | 10
|  | Dec. 31-Jan. 16 | 10 | 10
(1) In Illinois, shooting hours are sunrise to sunset.
(2) In Texas, the daily bag limit is either 15 mourning, white-winged, and white-tipped doves in the aggregate, of which no more than 2 may be white-tipped doves with a maximum 70-day season. Possession limits are twice the daily bag limit. During the special season in the Special White-winged Dove Area of the South Zone, the daily bag limit is 15 mourning, white-winged, and white-tipped doves in the aggregate, of which no more than 4 may be mourning doves and 2 may be white-tipped doves. Possession limits are twice the daily bag limit.
(3) In Arizona, during September 1 through 15, the daily bag limit is 10 mourning and white-winged doves in the aggregate, of which no more than 6 may be white-wing doves. During November 19 through January 2, the daily bag limit is 10 mourning doves. The possession limit is twice the daily bag limit.
(4) In Hawaii, the season is only open on the island of Hawaii. The daily bag and possession limits are 10 mourning doves, spotted doves and chestnut-bellied sandgrouse in the aggregate. Shooting hours are from one-half hour before sunrise through one-half hour after sunset. Hunting is permitted only on weekends and State holidays.
(b) Band-tailed Pigeons.

| Season dates | Limits: Bag | Limits: Possession
Arizona | Sept. 9-Oct. 2 | 5 | 10
California
North Zone | Sept. 17-Sept. 25 | 2 | 4
South Zone | Dec. 17-Dec. 25 | 2 | 4
Colorado | Sept. 1-Sept. 30 | 5 | 10
New Mexico (1)
North Zone | Sept. 1-Sept. 20 | 5 | 10
South Zone | Oct. 1-Oct. 20 | 5 | 10
Oregon | Sept. 15-Sept. 23 | 2 | 4
Utah (2) | Sept. 1-Sept. 30 | 5 | 10
Washington | Sept. 15-Sept. 23 | 2 | 4
(1) In New Mexico, each band-tailed pigeon hunter must have a band-tailed pigeon hunting permit issued by the State.
(2) In Utah, each band-tailed pigeon hunter must have either a band-tailed pigeon hunting permit or a special bird permit stamp issued by the State.

5. Section 20.104 is revised to read as follows:

§ 20.104 Seasons, limits, and shooting hours for rails, woodcock, and common snipe.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the July 26, 2011, Federal Register (76 FR 44730).

CHECK STATE REGULATIONS FOR AREA DESCRIPTIONS AND ANY ADDITIONAL RESTRICTIONS.

Note: States with deferred seasons will select those seasons at the same time they select waterfowl seasons in August. Consult late-season regulations for further information.

| Sora and Virginia rails | Clapper and King rails | Woodcock | Common Snipe
Daily bag limit | 25 (1) | 15 (2) | 3 | 8
Possession limit | 25 (1) | 30 (2) | 6 | 16
ATLANTIC FLYWAY
Connecticut (3) | Sept. 1-Sept.2 & Sept. 6-Nov. 12 | Sept. 1-Sept. 2 & Sept. 6-Nov. 12 | Oct. 27-Dec. 10 | Oct. 27-Dec. 10.
Delaware | Sept. 2-Nov. 10 | Sept. 2-Nov. 10 | Nov. 21-Dec. 10 & Dec. 14-Jan. 7 | Nov. 21-Dec.10 & Dec. 14-Jan. 7.
Florida | Sept. 1-Nov. 9 | Sept. 1-Nov. 9 | Dec. 18-Jan. 31 | Nov. 1-Feb. 15.
Georgia | Sept. 24-Oct. 31 & Nov. 8-Dec. 9 | Sept. 24-Oct. 31 & Nov. 8-Dec. 9 | Dec. 10-Jan. 23 | Nov. 14-Feb. 28.
Maine | Sept. 1-Nov. 9 | Closed | Oct. 1-Oct. 29 & Oct. 31-Nov. 15 | Sept. 1-Dec. 16.
Maryland (4) | Sept. 1-Nov. 9 | Sept. 1-Nov. 9 | Oct. 29-Nov. 25 & Jan. 12-Jan. 28 | Sept. 28-Nov. 25 & Dec. 12-Jan. 28.
Massachusetts (5) | Sept. 1-Nov. 9 | Closed | Deferred | Sept. 1-Dec. 16.
New Hampshire | Closed | Closed | Oct. 1-Nov. 14 | Sept. 15-Nov. 14.
New Jersey (6)
North Zone | Sept. 1-Nov. 9 | Sept. 1-Nov. 9 | Oct. 15-Nov. 19 | Sept. 16-Dec. 31.
South Zone | Sept. 1-Nov. 9 | Sept. 1-Nov. 9 | Nov. 12-Dec. 3 & Dec. 17-Dec. 30 | Sept. 16-Dec. 31.
New York (7) | Sept. 1-Nov. 9 | Closed | Oct. 1-Nov. 14 | Sept. 1-Nov. 9.
North Carolina | Sept. 1-Nov. 9 | Sept. 1-Nov. 9 | Dec. 15-Jan. 28 | Nov. 14-Feb. 28.
Pennsylvania (8) | Sept. 1-Nov. 9 | Closed | Oct. 15-Nov. 26 | Oct. 15-Nov. 26.
Rhode Island (9) | Sept. 3-Nov. 11 | Sept. 3-Nov. 11 | Nov. 1-Nov. 30 | Sept. 3-Nov. 11.
South Carolina | Sept. 26-Oct. 1 & Oct. 22-Dec. 24 | Sept. 26-Oct. 1 & Oct. 22-Dec. 24 | Nov. 19-Nov. 26 & Dec. 26-Jan. 31 | Nov. 14-Feb. 28.
Vermont | Closed | Closed | Oct. 1-Nov. 14 | Oct. 1-Nov. 14.
Virginia | Sept. 10-Oct. 1 & Oct. 3-Nov. 19 | Sept. 10-Oct. 1 & Oct. 3-Nov. 19 | Oct. 29-Nov. 12 & Dec. 16-Jan. 14 | Oct. 6-Oct. 10 & Oct. 22-Jan. 31.
West Virginia | Sept. 1-Nov. 5 | Closed | Oct. 15-Nov. 28 | Sept. 1-Dec. 10.
MISSISSIPPI FLYWAY
Alabama (10) | Nov. 25-Jan. 29 | Nov. 25-Jan. 29 | Dec. 18-Jan. 31 | Nov. 14-Feb. 28.
Arkansas | Sept. 10-Nov. 18 | Closed | Nov. 5-Dec. 19 | Nov. 1-Feb. 15.
Illinois (11) | Sept. 3-Nov. 11 | Closed | Oct. 15-Nov. 28 | Sept. 3-Dec. 18.
Indiana (12) | Sept. 1-Nov. 9 | Closed | Oct. 15-Nov. 28 | Sept. 1-Dec. 16.
Iowa (13) | Sept. 3-Nov. 11 | Closed | Oct. 1-Nov. 14 | Sept. 3-Nov. 30.
Kentucky | Sept. 1-Nov. 9 | Closed | Nov. 1-Dec. 15 | Sept. 21-Oct. 30 & Nov. 24-Jan. 29.
Louisiana (14) | Sept. 10-Sept. 25 | Sept. 10-Sept. 25 | Dec. 18-Jan. 31 | Deferred.
Michigan (15) | Sept. 15-Nov. 14 | Closed | Sept. 24-Nov. 7 | Sept. 15-Nov. 14.
Minnesota | Sept. 1-Nov. 7 | Closed | Sept. 24-Nov. 7 | Sept. 1-Nov. 7.
Mississippi | Sept. 25-Dec. 3 | Sept. 25-Dec. 3 | Dec. 9-Jan. 22 | Nov. 12-Feb. 26.
Missouri | Sept. 1-Nov. 9 | Closed | Oct. 15-Nov. 28 | Sept. 1-Dec. 16.
Ohio | Sept. 1-Nov. 9 | Closed | Oct. 8-Nov. 21 | Sept. 1-Nov. 27 & Dec. 17-Jan. 4.
Tennessee | Deferred | Closed | Oct. 29-Dec. 12 | Nov. 15-Feb. 29.
Wisconsin | Deferred | Closed | Sept. 24-Nov. 7 | Deferred.
CENTRAL FLYWAY
Colorado | Sept. 1-Nov. 9 | Closed | Closed | Sept. 1-Dec. 16.
Kansas | Sept. 1-Nov. 9 | Closed | Oct. 15-Nov. 28 | Sept. 1-Dec. 16.
Montana | Closed | Closed | Closed | Sept. 1-Dec. 16.
Nebraska (16) | Sept. 1-Nov. 9 | Closed | Sept. 24-Nov. 7 | Sept. 1-Dec. 16.
New Mexico (16) | Sept. 17-Nov. 25 | Closed | Closed | Oct. 15-Jan. 29.
North Dakota | Closed | Closed | Sept. 24-Nov. 7 | Sept. 17-Dec. 4.
Oklahoma | Sept. 1-Nov. 9 | Closed | Nov. 1-Dec. 15 | Oct. 1-Jan. 15.
South Dakota (17) | Closed | Closed | Closed | Sept. 1-Oct. 31.
Texas | Sept. 10-Sept. 25 & Nov. 5-Dec. 28 | Sept. 10-Sept. 25 & Nov. 5-Dec. 28 | Dec. 18-Jan. 31 | Nov. 5-Feb. 19.
Wyoming | Sept. 1-Nov. 9 | Closed | Closed | Sept. 1-Dec. 16.
PACIFIC FLYWAY
Arizona | Closed | Closed | Closed | Deferred.
California | Closed | Closed | Closed | Oct. 15-Jan. 29.
Colorado | Sept. 1-Nov. 9 | Closed | Closed | Sept. 1-Dec. 16.
Idaho:
Area 1 | Closed | Closed | Closed | Deferred.
Area 2 | Closed | Closed | Closed | Deferred.
Montana | Closed | Closed | Closed | Sept. 1-Dec. 16.
Nevada | Closed | Closed | Closed | Deferred.
New Mexico (16) | Sept. 17-Nov. 25 | Closed | Closed | Oct. 15-Jan. 29.
Oregon | Closed | Closed | Closed | Deferred.
Utah | Closed | Closed | Closed | Oct. 1-Jan. 14.
Washington | Closed | Closed | Closed | Deferred.
Wyoming | Sept. 1-Nov. 9 | Closed | Closed | Sept. 1-Dec. 16.
(1) The bag and possession limits for sora and Virginia rails apply singly or in the aggregate of these species.
(2) All bag and possession limits for clapper and king rails apply singly or in the aggregate of the two species and, unless otherwise specified, the limits are in addition to the limits on sora and Virginia rails in all States. In Connecticut, Delaware, Maryland, and New Jersey, the limits for clapper and king rails are 10 daily and 20 in possession. See also footnote (6) below.
(3) In Connecticut, the daily bag and possession limits may not contain more than 1 king rail. The common snipe daily bag and possession limits are 3 and 6, respectively.
(4) In Maryland, no more than 1 king rail may be taken per day.
(5) In Massachusetts, the sora rail limits are 5 daily and 5 in possession; the Virginia rail limits are 10 daily and 10 in possession.
(6) In New Jersey, the season for king rails is closed by State regulation.
(7) In New York, the rail daily bag and possession limits are 8 and 16, respectively. Seasons for sora and Virginia rails and common snipe are closed on Long Island.
(8) In Pennsylvania, the daily bag and possession limits for rails are 3 and 6, respectively.
(9) In Rhode Island, the sora and Virginia rails limits are 3 daily and 6 in possession, singly or in the aggregate; the clapper and king rail limits are 1 daily and 2 in possession, singly or in the aggregate; the common snipe limits are 5 daily and 10 in possession.
(10) In Alabama, the rail limits are 15 daily and 15 in possession, singly or in the aggregate.
(11) In Illinois, shooting hours are from sunrise to sunset.
(12) In Indiana, the sora rail limits are 25 daily and 25 in possession. The season on Virginia rails is closed.
(13) In Iowa, the limits for sora and Virginia rails are 12 daily and 24 in possession.
(14) Additional days occurring after September 30 will be published with the late season selections.
(15) In Michigan, the aggregate limits for sora and Virginia rails are 8 daily and 16 in possession.
(16) In Nebraska and New Mexico, the rail limits are 10 daily and 20 in possession.
(17) In South Dakota, the snipe limits are 5 daily and 15 in possession.

6. Section 20.105 is revised to read as follows:

§ 20.105 Seasons, limits, and shooting hours for waterfowl, coots, and gallinules.

Subject to the applicable provisions of the preceding sections of this part, areas open to hunting, respective open seasons (dates inclusive), shooting and hawking hours, and daily bag and possession limits for the species designated in this section are prescribed as follows:

Shooting and hawking hours are one-half hour before sunrise until sunset, except as otherwise noted. Area descriptions were published in the July 26, 2011, Federal Register (76 FR 44730).

CHECK STATE REGULATIONS FOR AREA DESCRIPTIONS AND ANY ADDITIONAL RESTRICTIONS.

Note: States with deferred seasons may select those seasons at the same time they select waterfowl seasons in August. Consult late-seasons regulations for further information.

(a) Common Moorhens and Purple Gallinules

| Season dates | Limits: Bag | Limits: Possession
ATLANTIC FLYWAY
Delaware | Sept. 2-Nov. 10 | 15 | 30
Florida (1) | Sept. 1-Nov.9 | 15 | 30
Georgia | Deferred |  |
New Jersey | Sept. 1-Nov. 9 | 10 | 20
New York
Long Island | Closed |  |
Remainder of State | Sept. 1-Nov. 9 | 8 | 16
North Carolina | Sept. 1-Nov. 9 | 15 | 30
Pennsylvania | Sept. 1-Nov. 9 | 3 | 6
South Carolina | Sept. 26-Oct. 1 & | 15 | 30
| Oct. 22-Dec. 24 | 15 | 30
Virginia | Deferred |  |
West Virginia | Deferred |  |
MISSISSIPPI FLYWAY
Alabama | Nov. 25-Jan. 29 | 15 | 15
Arkansas | Sept. 1-Nov. 9 | 15 | 30
Kentucky | Sept. 1-Nov. 9 | 15 | 30
Louisiana (2) | Sept. 10-Sept. 25 | 15 | 30
Michigan | Deferred |  |
Minnesota | Deferred |  |
Mississippi | Sept. 24-Dec. 2 | 15 | 30
Ohio | Sept. 1-Nov. 9 | 15 | 30
Tennessee | Deferred |  |
Wisconsin | Deferred |  |
CENTRAL FLYWAY
New Mexico
Zone 1 | Oct. 1-Dec. 9 | 1 | 2
Zone 2 | Oct. 1-Dec. 9 | 1 | 2
Oklahoma | Sept. 1-Nov. 9 | 15 | 30
Texas | Sept. 10-Sept. 25 & | 15 | 30
| Nov. 5-Dec. 28 | 15 | 30
PACIFIC FLYWAY
All States | Deferred |  |
(1) The season applies to common moorhens only.
(2) Additional days occurring after September 30 will be published with the late season selections.

(b) Sea Ducks (Scoter, Eider, and Long-Tailed Ducks in Atlantic Flyway)

Within the special sea duck areas, the daily bag limit is 7 scoter, eider, and long-tailed ducks, singly or in the aggregate, of which no more than 4 may be scoters. Possession limits are twice the daily bag limit. These limits may be in addition to regular duck bag limits only during the regular duck season in the special sea duck hunting areas.

| Season dates | Limits: Bag | Limits: Possession
Connecticut (1) | Sept. 20-Jan. 21 | 5 | 10
Delaware | Sept. 27-Jan. 28 | 7 | 14
Georgia | Deferred |  |
Maine (2) | Oct. 1-Jan. 31 | 7 | 14
Maryland | Deferred |  |
Massachusetts | Deferred |  |
New Hampshire (3) | Oct. 1-Jan. 15 | 7 | 14
New Jersey | Sept. 22-Jan. 24 | 7 | 14
New York | Oct. 15-Jan. 29 | 7 | 14
North Carolina | Deferred |  |
Rhode Island | Oct. 8-Jan. 22 | 5 | 10
South Carolina | Deferred |  |
Virginia | Deferred |  |
Note: Notwithstanding the provisions of this Part 20, the shooting of crippled waterfowl from a motorboat under power will be permitted in Maine, Massachusetts, New Hampshire, Rhode Island, Connecticut, New York, Delaware, Virginia and Maryland in those areas described, delineated, and designated in their respective hunting regulations as special sea duck hunting areas.
(1) In Connecticut, the daily bag limit may include no more than 4 long-tailed ducks.
(2) In Maine, the daily bag limit for eiders is 4, and the possession limit is 8.
(3) In New Hampshire, the daily bag limit may include no more than 4 eiders or 4 long-tailed ducks.

(c) Early (September) Duck Seasons.

Note: Unless otherwise specified, the seasons listed below are for teal only.

| Season dates | Limits: Bag | Limits: Possession
ATLANTIC FLYWAY
Delaware (1) | Sept. 10-Sept. 28 | 4 | 8
Florida (2) | Sept. 24-Sept. 28 | 4 | 8
Georgia | Sept. 10-Sept. 25 | 4 | 8
Maryland (1)(3) | Sept. 16-Sept. 30 | 4 | 8
North Carolina (1) | Sept. 10-Sept. 28 | 4 | 8
South Carolina (3) | Sept. 15-Sept. 30 | 4 | 8
Virginia (1) | Sept. 19-Sept. 30 | 4 | 8
MISSISSIPPI FLYWAY
Alabama | Sept. 10-Sept. 25 | 4 | 8
Arkansas (3) | Sept. 10-Sept. 25 | 4 | 8
Illinois (3) | Sept. 3-Sept. 18 | 4 | 8
Indiana (3) | Sept. 3-Sept. 18 | 4 | 8
Iowa (4)
North Zone | Sept. 17-Sept. 21 |  |
South Zone | Sept. 17-Sept. 21 |  |
Kentucky (2) | Sept. 21-Sept. 25 | 4 | 8
Louisiana | Sept. 10-Sept. 25 | 4 | 8
Mississippi | Sept. 10-Sept. 25 | 4 | 8
Missouri (3) | Sept. 10-Sept. 25 | 4 | 8
Ohio (3) | Sept. 3-Sept. 18 | 4 | 8
Tennessee (2) | Sept. 10-Sept. 14 | 4 | 8
CENTRAL FLYWAY
Colorado (1) | Sept. 10-Sept. 18 | 4 | 8
Kansas
Low Plains | Sept. 10-Sept. 25 | 4 | 8
High Plains | Sept. 17-Sept. 25 | 4 | 8
Nebraska (1)
Low Plains | Sept. 3-Sept. 18 | 4 | 8
High Plains | Sept. 10-Sept. 18 | 4 | 8
New Mexico | Sept. 17-Sept. 25 | 4 | 8
Oklahoma | Sept. 10-Sept. 25 | 4 | 8
Texas
High Plains | Sept. 10-Sept. 25 | 4 | 8
Rest of State | Sept. 10-Sept. 25 | 4 | 8
(1) Area restrictions. See State regulations.
(2) In Florida, Kentucky, and Tennessee, the daily bag limit is 4 wood ducks and teal in the aggregate, of which no more than 2 may be wood ducks. The possession limit is twice the daily bag limit.
(3) Shooting hours are from sunrise to sunset.
(4) In Iowa, the September season is part of the regular season, and limits will conform to those set for the regular season.

(d) Special Early Canada Goose Seasons

| Season dates | Limits: Bag | Limits: Possession
ATLANTIC FLYWAY
Connecticut (1)
North Zone | Sept. 1-Sept. 2 & | 15 | 30
| Sept. 6-Sept. 30 | 15 | 30
South Zone | Sept. 15-Sept. 30 | 15 | 30
Delaware | Sept. 1-Sept. 24 | 15 | 30
Florida | Sept. 3-Sept. 28 | 5 | 10
Georgia | Sept. 3-Sept. 25 | 5 | 10
Maine
Northern Zone | Sept. 1-Sept. 24 | 6 | 12
Southern Zone | Sept. 1-Sept. 24 | 8 | 16
Maryland (1)(2)
Eastern Unit | Sept. 1-Sept. 15 | 8 | 16
Western Unit | Sept. 1-Sept. 24 | 8 | 16
Massachusetts
Central Zone | Sept. 6-Sept. 24 | 7 | 14
Coastal Zone | Sept. 6-Sept. 24 | 7 | 14
Western Zone | Sept. 6-Sept. 24 | 7 | 14
New Hampshire | Sept. 6-Sept. 25 | 5 | 10
New Jersey (1)(2)(3) | Sept. 1-Sept. 30 | 15 | 30
New York
Lake Champlain Zone | Sept. 6-Sept. 25 | 5 | 10
Northeastern Zone | Sept. 1-Sept. 25 | 8 | 16
Western Zone | Sept. 1-Sept. 25 | 8 | 16
Southeastern Zone | Sept. 1-Sept. 25 | 8 | 16
Western Long Island Zone | Closed |  |
Central Long Island Zone | Sept. 6-Sept. 30 | 8 | 16
Eastern Long Island Zone | Sept. 6-Sept. 30 | 8 | 16
North Carolina (4)(5) | Sept. 1-Sept. 30 | 15 | 30
Pennsylvania (1)
SJBP Zone (6) | Sept. 1-Sept. 24 | 3 | 6
Rest of State (7) | Sept. 1-Sept. 24 | 8 | 16
Rhode Island (1) | Sept. 1-Sept. 30 | 15 | 30
South Carolina
Early-Season Hunt Unit | Sept. 1-Sept. 30 | 15 | 30
Vermont
Lake Champlain Zone (8) | Sept. 6-Sept. 25 | 5 | 10
Interior Vermont Zone | Sept. 6-Sept. 25 | 5 | 10
Connecticut River Zone (9) | Sept. 6-Sept. 25 | 5 | 10
Virginia (10) | Sept. 1-Sept. 24 | 10 | 20
West Virginia | Sept. 1-Sept. 17 | 5 | 10
MISSISSIPPI FLYWAY
Alabama | Sept. 1-Sept. 15 | 5 | 10
Arkansas | Sept. 1-Sept. 15 | 5 | 10
Illinois
North Zone | Sept. 1-Sept. 15 | 5 | 10
Central Zone | Sept. 1-Sept. 15 | 5 | 10
South Zone | Sept. 1-Sept. 15 | 2 | 4
Indiana | Sept. 1-Sept. 15 | 5 | 10
Iowa
South Goose Zone:
Des Moines Goose Zone | Sept. 3-Sept. 11 | 5 | 10
Cedar Rapids/Iowa City Goose Zone | Sept. 3-Sept. 11 | 5 | 10
Remainder of South Zone | Closed |  |
North Goose Zone:
Cedar Falls/Waterloo Zone | Sept. 3-Sept. 11 | 5 | 10
Remainder of North Zone | Closed |  |
Kentucky (11) | Sept. 1-Sept. 15 | 2 | 4
Michigan
Upper Peninsula | Sept. 1-Sept. 10 | 5 | 10
Lower Peninsula:
Huron, Saginaw, and Tuscola Counties | Sept. 1-Sept. 10 | 5 | 10
Remainder | Sept. 1-Sept. 15 | 5 | 10
Minnesota | Sept. 3-Sept. 22 | 5 | 10
Mississippi (12) | Sept. 1-Sept. 15 | 5 | 10
Ohio (11) | Sept. 1-Sept. 15 | 4 | 8
Tennessee | Sept. 1-Sept. 15 | 5 | 10
Wisconsin | Sept. 1-Sept. 15 | 5 | 10
CENTRAL FLYWAY
North Dakota
Missouri River Zone | Sept. 1-Sept. 7 | 8 | 16
Remainder of State | Sept. 1-Sept. 15 | 8 | 16
Oklahoma | Sept. 10-Sept. 19 | 8 | 16
South Dakota (11) | Sept. 3-Sept. 20 | 8 | 16
Texas
East Zone | Sept. 10-Sept. 25 | 5 | 10
PACIFIC FLYWAY
Colorado | Sept. 1-Sept. 9 | 4 | 8
Oregon
Northwest Zone | Sept. 10-Sept. 20 | 5 | 10
Southwest Zone (13) | Sept. 10-Sept. 14 | 5 | 10
East Zone (13) | Sept. 10-Sept. 14 | 5 | 10
Washington
Mgmt. Area 2B | Sept. 1-Sept. 15 | 5 | 10
Mgmt. Areas 1 & 3 | Sept. 10-Sept. 15 | 5 | 10
Mgmt. Area 4 & 5 | Closed |  |
Mgmt. Area 2A | Sept. 10-Sept. 15 | 3 | 6
Wyoming | Sept. 1-Sept. 8 | 2 | 4
(1) Shooting hours are one-half hour before sunrise to one-half hour after sunset.
(2) The use of shotguns capable of holding more than 3 shotshells is allowed.
(3) The use of electronic calls is allowed.
(4) In North Carolina, the use of unplugged guns and electronic calls is allowed in that area west of U.S. Highway 17 only.
(5) In North Carolina, shooting hours are one-half hour before sunrise to one-half hour after sunset in that area west of U.S. Highway 17 only.
(6) In Pennsylvania, in the area south of SR 198 from the Ohio state line to intersection of SR 18, SR 18 south to SR 618, SR 618 south to U.S. Route 6, U.S. Route 6 east to U.S. Route 322/SR 18, U.S. Route 322/SR 18 west to intersection of SR 3013, SR 3013 south to the Crawford/Mercer County line, not including the Pymatuning State Park Reservoir and an area to extend 100 yards inland from the shoreline of the reservoir, excluding the area east of SR 3011 (Hartstown Road), the daily bag limit is one goose. The season is closed on State Game Lands 214.
(7) In Pennsylvania, in the area of Lancaster and Lebanon Counties north of the Pennsylvania Turnpike, east of SR 501 to SR 419, south of SR 419 to the Lebanon-Berks County line, west of the Lebanon-Berks County line and the Lancaster-Berks County line to SR 1053, west of SR 1053 to the Pennsylvania Turnpike I-76, the daily bag limit is 1 goose with a possession limit of 2 geese. On State Game Lands No. 46 (Middle Creek Wildlife Mgmt Area), the season is closed.
(8) In Vermont, in Addison County north of Route 125, the daily bag and possession limit is 2 and 4, respectively.
(9) In Vermont, the season in the Connecticut River Zone is the same as the New Hampshire Inland Zone season, set by New Hampshire.
(10) In Virginia, shooting hours are one-half hour before sunrise to one-half hour after sunset from September 1 to September 17, and one-half hour before sunrise to sunset from September 19 to September 24 in the area east of I-95 where the September teal season is open. Shooting hours are one-half hour before sunrise to one-half hour after sunset from September 1 to September 24 in the area west of I-95.
(11) See State regulations for additional information and restrictions.
(12) In Mississippi, the season is closed on Roebuck Lake in Leflore County.
(13) In Oregon, the season is closed in the Southcoast Zone and the Klamath County Zone.

(e) Regular Goose Seasons

Note: Bag and possession limits will conform to those set for the regular season.

|  | Season dates
MISSISSIPPI FLYWAY
Michigan (1) | Canada:
| North Zone | Sept. 17-Oct. 31.
| Middle Zone | Deferred.
| South Zone | Deferred
| White-fronted and Brant | Deferred.
| Light geese | Deferred.
Wisconsin | Horicon Zone | Sept. 16-Sept. 30.
| Exterior Zone | Sept. 16-Sept. 30.
(1) In Michigan, season dates for the Muskegon Wastewater, Saginaw County, Allegan County, and Tuscola/Huron Goose Management Units in the South Zone will be established in the late-season regulatory process.

(f) Youth Waterfowl Hunting Days

The following seasons are open only to youth hunters. Youth hunters must be accompanied into the field by an adult at least 18 years of age. This adult cannot duck hunt but may participate in other open seasons.

Definitions

Youth Hunters: Includes youths 15 years of age or younger.

The Atlantic Flyway: Includes Connecticut, Delaware, Florida, Georgia, Maine, Maryland, Massachusetts, New Hampshire, New Jersey, New York, North Carolina, Pennsylvania, Rhode Island, South Carolina, Vermont, Virginia, and West Virginia.

The Mississippi Flyway: Includes Alabama, Arkansas, Illinois, Indiana, Iowa, Kentucky, Louisiana, Michigan, Minnesota, Mississippi, Missouri, Ohio, Tennessee, and Wisconsin.

The Central Flyway: Includes Colorado (east of the Continental Divide), Kansas, Montana (Blaine, Carbon, Fergus, Judith Basin, Stillwater, Sweetgrass, Wheatland, and all counties east thereof), Nebraska, New Mexico (east of the Continental Divide except that the Jicarilla Apache Indian Reservation is in the Pacific Flyway), North Dakota, Oklahoma, South Dakota, Texas, and Wyoming (east of the Continental Divide).

The Pacific Flyway: Includes Arizona, California, Colorado (west of the Continental Divide), Idaho, Montana (including and to the west of Hill, Chouteau, Cascade, Meagher, and Park Counties), Nevada, New Mexico (the Jicarilla Apache Indian Reservation and west of the Continental Divide), Oregon, Utah, Washington, and Wyoming (west of the Continental Divide including the Great Divide Basin).

Note: Bag and possession limits will conform to those set for the regular season unless there is a special season already open (e.g., September Canada goose season), in which case, that season's daily bag limit will prevail.

|  | Season dates
ATLANTIC FLYWAY
Connecticut |  | Deferred.
Delaware | Ducks, geese, brant, mergansers, and coots | Oct. 15 & Dec. 3.
Florida |  | Deferred.
Georgia | Ducks, geese, mergansers, coots, moorhens, and gallinules | Nov. 12 & 13.
Maine | Ducks, geese, mergansers, and coots |
| North Zone | Sept. 17.
| South Zone | Sept. 24 & Nov. 5.
Maryland (1) |  | Deferred.
Massachusetts |  | Deferred.
New Hampshire | Ducks, geese, mergansers, and coots | Sept. 24 & 25.
New Jersey |  | Deferred.
New York (2) | Ducks, mergansers, coots, brant, and Canada geese |
| Long Island Zone | Nov. 12 & 13.
| Lake Champlain Zone | Sept. 24 & 25.
| Northeastern Zone | Sept. 17 & 18.
| Southeastern Zone | Sept. 17 & 18.
| Western Zone | Oct. 8 & 9.
North Carolina |  | Deferred.
Pennsylvania | Ducks, mergansers, Canada geese, coots, and moorhens | Sept. 17 & 24.
Rhode Island | Ducks, mergansers and coots | Oct. 22 & 23.
South Carolina |  | Deferred.
Vermont | Ducks, geese, mergansers and coots | Sept. 24 & 25.
Virginia |  | Deferred.
West Virginia (3) | Ducks, geese, mergansers, coots, moorhens, and gallinules | Sept. 24 & Nov. 5.
MISSISSIPPI FLYWAY
Alabama | Ducks, mergansers, coots, geese, moorhens, and gallinules | Feb. 11 & 12.
Arkansas |  | Deferred.
Illinois |  | Deferred.
Indiana |  | Deferred.
Iowa |  | Deferred.
Kentucky |  | Deferred.
Louisiana |  | Deferred.
Michigan | Ducks, geese, mergansers, coots, moorhens, and gallinules | Sept. 17 & 18.
Minnesota | Ducks, geese, mergansers, coots, moorhens, and gallinules | Sept. 17.
Mississippi |  | Deferred.
Missouri |  | Deferred.
Ohio |  | Deferred.
Tennessee |  | Deferred.
Wisconsin | Ducks, geese, mergansers, coots, moorhens, and gallinules | Sept. 17 & 18.
CENTRAL FLYWAY
Colorado | Ducks, dark geese, mergansers, and coots |
| Mountain/Foothills Zone | Sept. 24 & 25.
| Northeast Zone | Sept. 24 & 25.
| Southeast Zone | Oct. 22 & 23.
Kansas (4) |  | Deferred.
Montana | Ducks, geese, mergansers, and coots | Sept. 24 & 25.
Nebraska (5) | Ducks, geese, mergansers, and coots | Oct. 1 & 2.
New Mexico | Ducks, mergansers, coots, and moorhens |
| North Zone | Oct. 1 & 2.
| South Zone | Oct. 15 & 16.
North Dakota | Ducks, geese, mergansers, and coots | Sept. 17 & 18.
Oklahoma |  | Deferred.
South Dakota (6) | Ducks, Canada geese, mergansers, and coots | Sept. 17 & 18.
Texas |  | Deferred.
Wyoming | Ducks, geese, mergansers, and coots |
| Zone 1 | Sept. 24 & 25.
| Zone 2 | Sept. 17 & 18.
PACIFIC FLYWAY
Arizona |  | Deferred.
California | Ducks, geese, mergansers, coots, moorhens, gallinules, and brant |
| Northeastern Zone | Sept. 24 & 24.
| Remainder of State | Deferred.
Colorado | Ducks, geese, mergansers, and coots | Oct. 15 & 16.
Idaho | Ducks, Canada geese, mergansers, coots, moorhens, and gallinules | Sept. 24 & 25.
Montana | Ducks, geese, mergansers, and coots | Sept. 24 & 25.
Nevada |  | Deferred.
New Mexico | Ducks, mergansers, moorhens, and coots | Oct. 1 & 2.
Oregon (7) | Ducks, Canada geese, mergansers, coots, moorhens, and gallinules | Sept. 24 & 25.
Utah | Ducks, geese, mergansers, coots, moorhens, and gallinules | Sept. 17.
Washington | Ducks, Canada geese, mergansers, and coots | Sept. 24 & 25.
Wyoming | Ducks, dark geese, mergansers, and coots | Sept. 17 & 18.
(1) In Maryland, the accompanying adult must be at least 21 years of age and possess a valid Maryland hunting license (or be exempt from the license requirement). This accompanying adult may not shoot or possess a firearm.
(2) In New York, the daily bag limit for Canada geese is 2.
(3) In West Virginia, the accompanying adult must be at least 21 years of age.
(4) In Kansas, the adult accompanying the youth must possess any licenses and/or stamps required by law for that individual to hunt waterfowl.
(5) In Nebraska, see State regulations for additional information on the daily bag limit.
(6) In South Dakota, the limit for Canada geese is 3, except in areas where the Special Early Canada goose season is open. In those areas, the limit is the same as for that special season.
(7) In Oregon, the goose season is closed for the youth hunt in the Northwest Special Permit Goose Zone and the Northwest General Zone.

7. Section 20.106 is revised to read as follows:

§ 20.106 Seasons, limits, and shooting hours for sandhill cranes.

Subject to the applicable provisions of the preceding sections of this part, areas open to hunting, respective open seasons (dates inclusive), shooting and hawking hours, and daily bag and possession limits on the species designated in this section are as follows:

Shooting and hawking hours are one-half hour before sunrise until sunset, except as otherwise noted. Area descriptions were published in the July 26, 2011, Federal Register (76 FR 44730).

Federally authorized, State-issued permits are issued to individuals, and only the individual whose name and address appears on the permit at the time of issuance is authorized to take sandhill cranes at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR AREA DESCRIPTIONS AND ANY ADDITIONAL RESTRICTIONS.

Note: States with deferred seasons may select those seasons at the same time they select waterfowl seasons in August. Consult late-season regulations for further information.

| Season dates | Limits: Bag | Limits: Possession
MISSISSIPPI FLYWAY
Kentucky | Deferred.
Minnesota (1)
NW Goose Zone | Sept. 3-Oct. 9 | 2 | 4
CENTRAL FLYWAY
Colorado (1) | Oct. 1-Nov. 27 | 3 | 6
Kansas (1)(2)(3) | Nov. 9-Jan. 5 | 3 | 6
Montana
Regular Season Area (1) | Sept. 24-Nov. 20 | 3 | 6
Special Season Area (4) | Sept. 10-Sept. 25 | 2 per season
New Mexico
Regular Season Area (1) | Oct. 31-Jan. 31 | 3 | 6
Middle Rio Grande Valley Area (4)(5) | Oct. 29-Oct. 30 & | 3 | 6
| Nov. 12 & | 3 | 6
| Nov. 19-Nov. 20 & | 3 | 6
| Dec. 3-Dec. 4 & | 3 | 6
| Jan. 14-Jan. 15 | 3 | 6
Southwest Area (4) | Oct. 29-Nov. 6 & | 3 | 6
| Jan. 7-Jan. 8 | 3 | 6
Estancia Valley (4) | Oct. 29-Nov. 6 | 3 | 6
North Dakota (1)
Area 1 | Sept. 17-Nov. 13 | 3 | 6
Area 2 | Sept. 17-Oct. 23 | 2 | 4
Oklahoma (1) | Deferred |  |
South Dakota (1) | Sept. 24-Nov. 20 | 3 | 6
Texas (1) | Deferred.
Wyoming
Regular Season (Area 7) (1) | Sept. 17-Nov. 13 | 3 | 6
Riverton-Boysen Unit (Area 4) (4) | Sept. 17-Oct. 9 | 1 per season
Big Horn, Hot Springs, Park, and Washakie Counties (Area 6) (4) | Sept. 17-Oct. 2 | 1 per season
PACIFIC FLYWAY |  |
Arizona (4) |  |
Special Season Area | Nov. 11-Nov. 13 & | 3 per season
| Nov. 18-Nov. 20 & | 3 per season
| Nov. 22-Nov. 24 & | 3 per season
| Nov. 26-Nov. 28 & | 3 per season
| Nov. 30-Dec. 2 & | 3 per season
| Dec. 9-Dec. 11 | 3 per season
Lower CO River Hunt Area | Closed. |
Idaho (4) |  |
Area 1 | Sept. 1-Sept. 30 | 3 | 9 per season
Areas 2-5 | Sept. 1-Sept. 15 | 3 | 9 per season
Montana |  |
Special Season Area (4) | Sept. 10-Sept. 25 | 2 per season
Utah (4) |  |
Rich County | Sept. 3-Sept. 11 | 1 per season
Cache County | Sept. 3-Sept. 11 | 1 per season
Eastern Box Elder County | Sept. 3-Sept. 11 | 1 per season
Uintah County | Sept. 24-Oct. 2 | 1 per season
Wyoming (4) |  |
Bear River Area (Area 1) | Sept. 1-Sept. 8 | 1 per season
Salt River Area (Area 2) | Sept. 1-Sept. 8 | 1 per season
Eden-Farson Area (Area 3) | Sept. 1-Sept. 8 | 1 per season
Uinta County (Area 5) | Sept. 1-Sept. 8 | 1 per season
(1) Each person participating in the regular sandhill crane seasons must have a valid sandhill crane hunting permit and/or a State-issued Harvest Information Survey Program (HIP) certification for game bird hunting in their possession while hunting.
(2) In Kansas, shooting hours are from one-half hour after sunrise until 2 p.m through November 30, and from sunrise until 2 p.m. December 1 through the close of the season.
(3) In Kansas, each person desiring to hunt sandhill cranes in Kansas is required to pass an annual, on-line sandhill crane identification examination.
(4) Hunting is by State permit only. See State regulations for further information.
(5) In New Mexico, in the Middle Rio Grande Valley Area, the season is only open for youth hunters on November 12. See State regulations for further details.

8. Section 20.109 is revised to read as follows:

§ 20.109 Extended seasons, limits, and hours for taking migratory game birds by falconry.

Subject to the applicable provisions of the preceding sections of this part, areas open to hunting, respective open seasons (dates inclusive), hawking hours, and daily bag and possession limits for the species designated in this section are prescribed as follows:

Hawking hours are one-half hour before sunrise until sunset except as otherwise noted. Area descriptions were published in the July 26, 2011, Federal Register (76 FR 44730). For those extended seasons for ducks, mergansers, and coots, area descriptions were published in an August 26, 2011, Federal Register and will be published again in a late-September 2011, Federal Register.

CHECK STATE REGULATIONS FOR AREA DESCRIPTIONS AND ANY ADDITIONAL RESTRICTIONS.

Daily bag limit—3 migratory birds, singly or in the aggregate.

Possession limit—6 migratory birds, singly or in the aggregate.

These limits apply to falconry during both regular hunting seasons and extended falconry seasons—unless further restricted by State regulations. The falconry bag and possession limits are not in addition to regular season limits. Unless otherwise specified, extended falconry for ducks does not include sea ducks within the special sea duck areas. Only extended falconry seasons are shown below. Many States permit falconry during the gun seasons. Please consult State regulations for details.

For ducks, mergansers, coots, geese, and some moorhen seasons; additional season days occurring after September 30 will be published with the late-season selections. Some States have deferred selections. Consult late-season regulations for further information.

|  | Extended falconry dates
ATLANTIC FLYWAY
Delaware | Doves | Oct. 3-Oct. 14 & Jan. 16-Feb. 9.
| Rails | Nov. 11-Dec. 17.
| Woodcock and snipe | Oct. 1-Oct. 7 & Jan. 16-Mar. 10.
Florida | Doves | Oct. 25-Nov. 11 & Nov. 28-Dec. 9 & Jan. 9-Jan. 15.
| Rails | Nov. 10-Dec. 16.
| Woodcock | Nov. 24-Dec. 17 & Feb. 1-Mar. 9.
| Common moorhens | Nov. 10-Dec. 14.
Georgia | Moorhens, gallinules, and sea ducks | Nov. 28-Dec. 9 & Jan. 30-Feb. 10.
Maryland | Doves | Oct. 9-Oct. 31 & Jan. 8-Jan. 18
| Rails | Nov. 11-Dec. 14.
| Woodcock | Oct. 1-Oct. 28 & Feb. 9-Mar. 10.
North Carolina | Doves | Oct. 15-Nov. 19.
| Rails, moorhens, and gallinules | Nov. 19-Dec. 24.
| Woodcock | Nov. 7-Dec. 10 & Jan. 30-Feb. 25.
Pennsylvania | Doves | Oct. 3-Oct. 28 &Nov. 28-Dec. 8.
| Rails | Nov. 10-Dec. 16.
| Woodcock and snipe | Sept. 1-Oct. 14 & Nov. 28-Dec. 16.
| Moorhens and gallinules | Nov. 10-Dec. 16.
Virginia | Doves | Oct. 11-Oct. 24 & Dec. 20-Dec. 25 & Jan. 15-Jan. 31.
| Woodcock | Oct. 17-Oct. 28 & Nov. 13-Dec. 15 & Jan. 15-Jan. 31.
| Rails | Oct. 2 & Nov. 20-Dec. 25.
MISSISSIPPI FLYWAY
Illinois | Doves | Nov. 1-Nov. 4 & Nov. 14-Dec. 16.
| Rails | Sept. 1-Sept. 2 & Nov. 12-Dec. 16.
| Woodcock | Sept. 1-Oct. 14 & Nov. 29-Dec. 16.
Indiana | Doves | Oct. 17-Nov. 3 & Jan. 1-Jan. 19.
| Woodcock | Sept. 20-Oct. 14 & Nov. 29-Jan. 4.
| Ducks, mergansers, and coots (1).
North Zone |  | Sept. 27-Sept. 30.
Louisiana | Doves | Sept. 19-Oct. 4.
| Woodcock | Oct. 27-Dec. 16 & Feb. 1-Feb. 11.
Minnesota | Woodcock | Sept. 1-Sept. 23 & Nov. 8-Dec. 16.
| Rails and snipe | Nov. 8-Dec. 16.
Missouri | Doves | Nov. 10-Dec. 16.
| Ducks, mergansers, and coots | Sept. 10-Sept. 25.
Ohio | Ducks, coots, and geese | Sept. 1-Sept. 18.
Tennessee | Mourning doves | Sept. 27-Oct. 7 & Oct. 24-Nov. 18.
| Ducks (1) | Sept. 15-Oct. 20.
Wisconsin | Rails, snipe, moorhens, and gallinules (1) | Sept. 1-Sept. 23.
| Woodcock | Sept. 1-Sept. 23.
| Ducks, mergansers, and coots | Sept. 17-Sept. 18.
CENTRAL FLYWAY
Montana (2) | Ducks, mergansers, and coots (1) | Sept. 21-Sept. 30.
Nebraska | Ducks, mergansers, and coots.
High Plains |  | Sept. 10-Sept. 18 & Oct. 1-Oct. 2.
Low Plains |  | Sept. 1-Sept. 30.
New Mexico | Doves.
North Zone |  | Nov. 10-Nov. 12 & Nov. 28-Dec. 31.
South Zone |  | Oct. 10-Nov. 12 & Nov. 28-Nov. 30.
| Band-tailed pigeons.
North Zone |  | Sept. 21-Dec. 16.
South Zone |  | Oct. 21-Jan. 15.
| Ducks and coots | Sept. 17-Sept. 25.
| Sandhill cranes | Oct. 17-Oct. 30.
Regular Season Area |  | Oct. 17-Oct. 30.
Estancia Valley Area |  | Nov. 7-Dec. 27.
| Common moorhens | Dec. 10-Jan. 15.
| Sora and Virginia rails | Nov. 26-Jan. 1. | North Dakota | Ducks, mergansers, and coots | Sept. 5-Sept. 9 & Sept. 12-Sept. 16.
| Snipe | Sept. 5-Sept. 9 & Sept. 12-Sept. 16.
South Dakota | Ducks, mergansers, and coots (1).
High Plains Low Plains |  | Sept. 3-Sept. 10.
| North Zone | Sept. 3-Sept. 16 & Sept. 19-Sept. 23.
| Middle Zone | Sept. 3-Sept. 16 & Sept. 19-Sept. 23.
| South Zone | Sept. 3-Sept. 16 & Sept. 19-Sept. 29.
Texas | Doves | Nov. 16-Dec. 22.
| Rails, gallinules, and woodcock | Jan. 30-Feb. 13.
Wyoming | Rails | Nov. 10-Dec. 16.
| Ducks, mergansers, and coots (1).
Zone 1 |  | Sept. 24-Sept. 25 & Oct. 17-Oct. 24.
Zone 2 |  | Sept. 17-Sept. 18 & Nov. 28-Dec. 5.
PACIFIC FLYWAY
Arizona | Doves | Sept. 16-Nov. 1.
New Mexico | Doves.
North Zone |  | Nov. 10-Nov. 12 & Nov. 28-Dec. 31.
South Zone |  | Oct. 10-Nov. 12 & Nov. 28-Nov. 30.
| Band-tailed pigeons.
North Zone |  | Sept. 21-Dec. 16.
South Zone |  | Oct. 21-Jan. 15.
Oregon | Doves | Oct. 1-Dec. 16.
| Band-tailed pigeons (3) | Sept. 1-Sept. 14 & Sept. 24-Dec. 16.
Utah | Doves and band-tailed pigeons | Oct. 1-Dec. 16.
Washington | Doves | Oct. 1-Dec. 16.
Wyoming | Rails | Nov. 10-Dec. 16.
| Ducks, mergansers, and coots (1) | Sept. 17-Sept. 18.
(1) Additional days occurring after September 30 will be published with the late-season selections.
(2) In Montana, the bag limit is 2 and the possession limit is 6.
(3) In Oregon, no more than 1 pigeon daily in bag or possession.

[FR Doc. 2011-22424 Filed 8-31-11; 8:45 am]

BILLING CODE 4310-55-P